DEPARTMENT OF LABOR

Employment and Training Administration

Notice of Determinations Regarding Eligibility To Apply for Trade Adjustment Assistance

In accordance with the Section 223 (19 U.S.C.2273) of the Trade Act of 1974 (19 U.S.C.2271, et seq.) (“Act”), as amended, the Department of Labor herein presents summaries of determinations regarding eligibility to apply for trade adjustment assistance under Chapter 2 of the Act (“TAA”) for workers by (TA-W) number issued during the period of November 1, 2020 through November 30, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path or Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,438 | North Pacific Canners & Packers Inc., NORPAC Food Inc. | Stayton, OR | December 2, 2018.
95,438A | North Pacific Canners & Packers Inc., NORPAC Food Inc., Brooks Plant | Salem, OR | December 2, 2018.
95,438B | North Pacific Canners & Packers Inc., NORPAC Food Inc., Repack Center | Salem, OR | December 2, 2018.
95,438C | North Pacific Canners & Packers Inc., NORPAC Food Inc., Corporate Office | Salem, OR | December 2, 2018.
95,438D | North Pacific Canners & Packers Inc., NORPAC Food Inc., Truck Stop | Salem, OR | December 2, 2018.
95,538 | TMK IPSCO, IPSCO Tubular Inc., Temps Plus Staffing, Personnel Placements LLC | Blytheville, AR | January 6, 2019.
95,587 | YS Industries LLC, Anaya's Cutting, Anaya Brothers Cutting, AppleOne Employment Services, etc | Vernon, CA | January 21, 2019.
95,636 | L.A. Darling Company, Metal Division, The Marmon Group, People Source | Paragould, AR | January 31, 2019.
95,643 | MAHLE Engine Components USA, Inc., MAHLE Industries Inc., Express Personnel Services | Russellville, AR | February 3, 2019.
95,653 | Blount International, Inc., Express Employment, Aerotek | Portland, OR | February 5, 2019.
95,680 | Harte Hanks Response Management/Austin Inc., Harte Hanks, Beacon Hill, Randstad, KeyStaff, ChaseSource, PeopleShare, etc | Austin, TX | February 11, 2019.
95,689 | Harte Hanks Response Management/Austin Inc., Harte Hanks, Beacon Hill, Randstad, KeyStaff, ChaseSource, PeopleShare, etc | Texarkana, TX | February 12, 2019.
95,988 | Team Industries, Team Industries, Inc., Manpower | Andrews, NC | June 12, 2019.
95,993 | Beaver Falls Tubular Product LLC, Alliance Tubular Holdings LLC | Beaver Falls, PA | June 16, 2019.
96,135 | Oregon Metallurgical Corporation, Allegheny Technologies, ATI Specialty Alloys and Components, etc | Albany, OR | August 12, 2019.
96,169 | Premier Processing LLC, Cadence Aerospace, Arnold Group, Summit Employment, Apprentice Personnel | Wichita, KS | August 31, 2019.

The following certifications have been issued. The requirements of Section 222(a)(2)(B) (Shift in Production or Services to a Foreign Country Path or Acquisition of Articles or Services from a Foreign Country Path) of the Trade Act have been met.

TA-W No. | Subject firm | Location | Impact date
95,492 | Nexteer Automotive, North America Division, Arco Staffing, Advantage Technical, Aerotek, etc | Saginaw, MI | December 17, 2018.
95,554 | AvMed Inc., Claims Processing, SantaFe Healthcare, Career Mover & Shaper, Aerotek, etc | Gainesville, FL | January 10, 2019.
95,581 | BCBSM, Inc., Blue Cross Blue Shield of Minnesota, etc | Virginia, MN | January 21, 2019.
95,584 | NORMA Michigan Inc., NORMA Pennsylvania, Qualified Staffing, Craig Assembly, Impact Staffing | Auburn Hills, MI | January 21, 2019.
95,674 | Baptist Healthcare System Inc., Baptist Health Louisville, Medical Coding Unit | Louisville, KY | January 27, 2019.
95,675 | Innio Waukesha Gas Engines Inc | Waukesha, WI | May 11, 2020.
95,906 | BFGoodrich Tire Manufacturing (BFG4), Michelin North America, Manufacturing, Capstone Logistics, Newbold Services | Woodburn, IN | April 30, 2019.
95,967 | Manchester Tank &amp; Equipment Company, Forge Industrial Staffing | Elkhart, IN | June 5, 2019.
95,977 | MSSC US Inc., Mitsubishi Steel Manufacturing, Luttrell, Staff Easy, Wise Staffing | Hopkinsville, KY | June 9, 2019.
96,009 | PCC Structurals, Inc., Precision Castparts Corp., Aerotek Staffing and Recruiting, etc | Portland, OR | June 22, 2019.
96,010 | PCC Structurals, Inc., Precision Castparts Corp., Aerotek Staffing and Recruiting, etc | Clackamas, OR | June 22, 2019.
96,047 | Bates Rubber LLC | Lobelville, TN | July 8, 2019.
96,059 | Arauco North America, Inc., Duraflake Facility, Arauco Canada, Selectemp Employment Services, etc | Albany, OR | July 15, 2019.
96,059A | Arauco North America, Inc., Albany Treating and Lamination Facility, Arauco Canada Limited, etc | Albany, OR | July 15, 2019.
96,060 | Dal-Title Corporation, Mohawk Industries, Aerotek, Carlton Staffing, Cella, The BOSS Group, etc | Dallas, TX | July 15, 2019.
96,060A | Dal-Title Corporation, Mohawk Industries, Taos Staffing, Sterling Personnel, Onin Staffing, etc | Sunnyvale, TX | July 15, 2019.
96,060B | Dal-Title Corporation, Mohawk Industries | Mesquite, TX | July 15, 2019.
96,060C | Dal-Title Corporation, Pellicano Drive facility, Mohawk Industries, Trillium | El Paso, TX | July 15, 2019.
96,060D | Dal-Title Corporation, Railroad Drive facility, Mohawk Industries, TruTemps Staffing Group, etc | El Paso, TX | July 15, 2019.
96,060E | Dal-Title Corporation, Mohawk Industries, Integrity Staffing Solutions, Premier USA Staffing, etc | Muskogee, OK | July 15, 2019.
96,060F | Dal-Title Corporation, Mohawk Industries | Oklahoma City, OK | July 15, 2019.
96,084 | Vibracoustic North America LP, Peoplelink, Leaders Staffing, Elwood Staffing | Ligonier, IN | July 22, 2019.
96,085 | Gitman and Company/IAG, Tom James Company | Ashland, PA | July 23, 2019.
96,085A | Gitman and Company/IAG, Tom James Company | New York, NY | July 23, 2019.
96,087 | IQVIA Inc., IQVIA Holdings, Chief Information Office, End User Digital Experience Unit | Overland Park, KS | July 22, 2019.
96,096 | Keihin IPT Manufacturing, LLC, Keihin North America, Inc., First Call Staffing | Greenfield, IN | July 24, 2019.
96,101 | Simmons Pet Food, Inc., Accu Staffing Services | Pennsauken, NJ | July 27, 2019.
96,104 | Titan Wheel Corporation of Virginia, Titan International Inc., Luttrell Staffing Group | Saltville, VA | July 26, 2020.
96,118 | Johnson Controls, Inc., Building Technologies & Solutions Division, Johnson Controls, PLC | Marinette, WI | August 2, 2019.
96,119 | SLASHSUPPORT Inc., CSS Corporation Technologies (Mauritius) Limited, etc | Draper, UT | August 4, 2019.
96,128 | Southwick LLC, Southwick Apparel, Golden Fleece Manufacturing/Brooks Brothers, etc | Haverhill, MA | August 6, 2019.
96,143 | Nokia of America Corporation, SAC Wireless | Naperville, IL | October 24, 2020.
96,143A | Volt, Nokia of America Corporation | Naperville, IL | August 17, 2019.
96,148 | SRG Global, Human Resources Department, SRG Global, Inc | Ripley, TN | August 18, 2019.
96,148A | SRG Global, Controllers/Accounting Department, SRG Global, Inc | Ripley, TN | August 18, 2019.
96,148B | SRG Global, Human Resources Department, SRG Global, Inc | Newbern, TN | August 18, 2019.
96,148C | SRG Global, Controllers/Accounting Department, SRG Global, Inc | Newbern, TN | August 18, 2019.
96,153 | Therm-O-Disc, Inc., Emerson Electric Co., Staffing Partners, Temp2Higher, Time Staffing, etc | Mansfield, OH | August 20, 2019.
96,154 | FlSmidth, Inc., Staff Pro Staffing Agency, Elwood Staffing, Randstad Inc | Johnson City, TN | August 21, 2019.
96,160 | Riviera Travel LLC, Riviera Tours LTD | Fairfield, CT | August 26, 2019.
96,163 | Celeros Flow Technology, Advantage Technical Resourcing, SPX FLOW US, LLC | McKean, PA | August 26, 2019.
96,164 | CTS Electronic Components, Inc., CTS Corporation, Ceramics, Resource MFG, VIP Staffing, BESTstaff, etc | Albuquerque, NM | August 26, 2019.
96,168 | Morgan Advanced Ceramics Inc., Morganite Industries Inc | Latrobe, PA | August 31, 2019.
96,170 | Streater LLC, Marmon Holdings, Express Services, Inc | Albert Lea, MN | August 31, 2019.
96,172 | Wieland Copper Products, LLC, AtWork Personnel | Pine Hall, NC | August 31, 2019.
96,173 | Respironics Novametrics LLC, Respironics Inc., Randstad | Wallingford, CT | October 19, 2020.
96,174 | Schweitzer-Mauduit International, SWM Poland Sp.Zo.O | Spotswood, NJ | September 1, 2019.
96,177 | Supreme Steel, Supreme Group | Portland, OR | September 2, 2019.
96,183 | W&D North America, W & D Gmbh, Barry Wehmiller Design Group, Ruggieri Enterprise LLC | Duncansville, PA | September 9, 2019.
96,184 | EmblemHealth, LLC, Claims Processing Administration | New York, NY | September 10, 2019.
96,184A | EmblemHealth, LLC, Claims Processing Administration | Albany, NY | September 10, 2019.
96,185 | EmblemHealth, LLC, Claims Processing Administration | Melville, NY | September 10, 2019.
96,187 | Korn Ferry (US), Logicalis, Larko Group | Chicago, IL | September 10, 2019.
96,188 | Nexans, Nexans Energy USA | Chester, NY | September 11, 2019.
96,188A | Nexans, Nexans Energy USA | Middletown, NY | September 11, 2019.
96,194 | Carl Zeiss Meditec, Inc., Carl Zeiss Meditec AG, Randstad, Briand Executive Search, etc | Dublin, CA | September 15, 2019.
96,555 | Federal-Mogul Piston Rings LLC, Federal-Mogul Powertrain, Tenneco Powertrain | Sparta, MI | October 9, 2019.
96,558 | FreightCar Alabama, LLC, a subsidiary of FreightCar America, Inc | Cherokee, AL | October 15, 2019.
96,569 | Telsmith Inc., a division of ASTEC Industries Inc | Mequon, WI | October 15, 2019.
96,572 | Metro Decor LLC | Warren, OH | October 23, 2019.
96,573 | Tenneco Inc., Pistons Business Unit Federal Mogul Powertrain LLC | South Bend, IN | October 26, 2019.
96,574 | Phillips-Medisize | Eau Claire, WI | October 27, 2019.
96,577 | Metaldyne BSM LLC, AAM Fremont Manufacturing Facility, Driveline Division | Fremont, IN | October 27, 2019.
96,582 | Aquafine Corporation | Valencia, CA | October 29, 2019.
96,583 | Dentsply Sirona, Lab/Prosthetics Dentsply Prosthetics US LLC | York, PA | November 2, 2019.
96,586 | Emerson Electric Company, Machine Automation Solutions | Charlottesville, VA | October 30, 2019.
96,589 | Pall Filter Specialists, Inc | Grand Island, NE | November 2, 2019.

The following certifications have been issued. The requirements of Section 222(b) (supplier to a firm whose workers are certified eligible to apply for TAA) of the Trade Act have been met.

TA-W No. | Subject firm | Location | Impact date
96,003 | thyssenKrupp Materials, LLC, thyssenKrupp Materials NA, Inc | Hutchinson, KS | June 18, 2019.
96,043 | GKN Aerospace Precision Machining, Inc., GKN Aerospace | Wellington, KS | July 7, 2019.
96,078 | Cadence Aerospace, Giddens Industries Division, Technipower, JSG Agency, Terra Staffing, etc | Everett, WA | July 14, 2019.
96,078A | Precision Machine Works, Inc., Cadence Aerospace, Archbright, Insight Global, etc | Tacoma, WA | July 14, 2019.
96,134 | Trulife, Inc., Express Employment Professionals | Bellingham, WA | August 8, 2019.
96,145 | TECT Aerospace Wellington, Inc., TAD GPS, Summit Employment Professionals, The Arnold Group, etc | Wellington, KS | August 17, 2019.
96,145A | TECT Hypervelocity, Inc., Summit Employment Professionals, The Arnold Group, etc | Park City, KS | August 17, 2019.
96,145B | TECT Aerospace, LLC | Wichita, KS | August 17, 2019.
96,167 | Aero-Tech Engineering, Inc | Maize, KS | August 31, 2019.

The following certifications have been issued. The requirements of Section 222(b) (downstream producer to a firm whose workers are certified eligible to apply for TAA) of the Trade Act have been met.

TA-W No. | Subject firm | Location | Impact date
96,141 | Boeing Distribution Services, Inc., The Boeing Company, Adecco, Aerotek, Affinity Resources, etc | Miami, FL | August 14, 2019.
96,141A | Boeing Distribution Services, Inc., The Boeing Company, Aerotek | Chandler, AZ | August 14, 2019.
96,141B | Boeing Distribution Services, Inc., The Boeing Company | Carson, CA | August 14, 2019.
96,141C | Boeing Distribution Services, Inc., The Boeing Company, Aerotek | Enfield, CT | August 14, 2019.
96,141D | Boeing Distribution Services, Inc., The Boeing Company | Wichita, KS | August 14, 2019.
96,141E | Boeing Distribution Services, Inc., The Boeing Company, Aerotek, Robert Half, Randstad | Oâ€™ Fallon, MO | August 14, 2019.
96,141F | Boeing Distribution Services, Inc., The Boeing Company | Parsippany, NJ | August 14, 2019.
96,141G | Boeing Distribution Services, Inc., The Boeing Company, Aerotek | Cornwall, NY | August 14, 2019.
96,141H | Boeing Distribution Services, Inc., The Boeing Company | Westbury, NY | August 14, 2019.
96,141I | Boeing Distribution Services, Inc., The Boeing Company, Adecco | Greensboro, NC | August 14, 2019.
96,141J | Boeing Distribution Services, Inc., The Boeing Company | Boothwyn, PA | August 14, 2019.
96,141K | Boeing Distribution Services, Inc., The Boeing Company | Philadelphia, PA | August 14, 2019.
96,141L | Boeing Distribution Services, Inc., The Boeing Company | Coppell, TX | August 14, 2019.
96,141M | Boeing Distribution Services, Inc., The Boeing Company | Fort Worth, TX | August 14, 2019.
96,141N | Boeing Distribution Services, Inc., The Boeing Company | Houston, TX | August 14, 2019.
96,141O | Boeing Distribution Services, Inc., The Boeing Company | Kent, WA | August 14, 2019.
96,171 | Textron Aviation Inc., Textron, PDS Tech, APA Services, Aviation Consulting Experts Inc | Independence, KS | August 31, 2019.

The following certifications have been issued. The requirements of Section 222(e) (firms identified by the International Trade Commission) of the Trade Act have been met.

TA-W No. | Subject firm | Location | Impact date
96,571 | Pactiv LLC | Abilene, TX | September 10, 2019.
96,575 | Nan Ya Plastics Corporation USA | Wharton, TX | September 10, 2019.
96,578 | Greenfield Cabinetry, LLC, a subsidiary of the Corsi Group, Inc | Elkins, WV | April 17, 2019.
96,580 | Sonoco Products, Plastics/Perimeter of the Store | Yakima, WA | September 10, 2019.
96,588 | Plastic Ingenuity, Inc | Maumelle, AR | September 10, 2019.
96,596 | Mercury Plastics, Inc | Chicago, IL | September 10, 2019.
96,598 | Mercury Plastics, Inc., Felpak | Franklin Park, IL | September 10, 2019.
96,602 | Solo Cup Operating Corporation, an affiliated entity of Dart Container Corporation | Urbana, IL | September 10, 2019.
96,604 | Solo Cup Operating Corporation, an affiliated entity of Dart Container Corporation | Chicago, IL | September 10, 2019.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
95,855 | Lipan Services LLC | San Angelo, TX
95,856 | Rialto Services LLC | San Angelo, TX

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,612 | Frank Morrow Company | Providence, RI

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,341 | Fishpeople Seafood Inc., BBSI Staffing | Toledo, OR
95,536 | Johnson Controls, Inc., Building Technologies & Solutions Division, Johnson Controls International | Plymouth, MN
95,564 | MSX International RSN LLC, Pacific (BC) Topco 5 Limited | Center Line, MI
95,802 | Caldwell Corporation | Emporium, PA
95,813 | United States Steel Corporation, Minnesota Ore Operations, G4S Secure Solutions and Cleaning Specialist | Iron Mountain, MN
95,837 | Echo Canyon Crude Trucking, LLC, American Midstream Partners, Crude Oil Trucking, Echo Canyon Pipeline, etc | San Angelo, TX
95,885 | Schlumberger Technology Corporation, Schlumberger Holdings Corporation, Amerit Fleet Solutions, Onsite Personnel | Denton, TX
95,932 | Triumph Aerospace Structures, Triumph Groups, Johnson Services Group, Aerostructure, Chipton Ross, etc | Tulsa, OK
96,034 | Selmet, Inc., Consolidated Precision Products (CPP) | Albany, OR
96,116 | Motorola Mobility LLC, Lenovo Group Limited, SDI | Chicago, IL
96,151 | United States Gypsum Company, United States Gypsum Corporation, Elite Staffing | Norfolk, VA
96,162 | ASARCO, LLC, ASARCO USA Inc., Staff Matters Inc | Amarillo, TX

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
96,071 | BAE Systems Controls Inc., Electronic Systems Division, BAE Systems, Inc | Fort Wayne, IN

The following determinations terminating investigations were issued in cases where the petition regarding the investigation has been deemed invalid.

TA-W No. | Subject firm | Location | Impact date
96,186 | Klean Karpet | Atlanta, GA

The following determinations terminating investigations were issued because the worker group on whose behalf the petition was filed is covered under an existing certification.

TA-W No. | Subject firm | Location | Impact date
95,800 | Xerox Corporation, Billing & Customer Support Division | Webster, NY
96,132 | Southwick LLC, Southwick Apparel Division, Golden Fleece Manufacturing/Brooks Brothers | Haverhill, MA
96,158 | Matthew Warren Spring, Plant 1, MW Industries, Inc | Logansport, IN
96,158A | Matthew Warren Spring, Plant 2, MW Industries, Inc | Logansport, IN
96,158B | Matthew Warren Spring, Plant 3, MW Industries, Inc | Logansport, IN

I hereby certify that the aforementioned determinations were issued during the period of November 1, 2020 through November 30, 2020. These determinations are available on the Department's website https://www.doleta.gov/tradeact/petitioners/taa_search_form.cfm under the searchable listing determinations or by calling the Office of Trade Adjustment Assistance toll free at 888-365-6822.

Signed at Washington, DC, this 9th day of December 2020.
Hope D. Kinglock,
Certifying Officer, Office of Trade Adjustment Assistance.

[FR Doc. 2020-28207 Filed 12-21-20; 8:45 am]

BILLING CODE 4510-FN-P